DEPARTMENT OF HOMELAND SECURITY

Federal Emergency Management Agency

44 CFR Part 64

[Docket No. FEMA-7768]

List of Communities Eligible for the Sale of Flood Insurance

AGENCY: Federal Emergency Management Agency, Emergency Preparedness and Response Directorate, Department of Homeland Security.

ACTION: Final rule.

SUMMARY: This rule identifies communities participating in the National Flood Insurance Program (NFIP) and suspended from the NFIP. These communities have applied to the program and have agreed to enact certain floodplain management measures. The communities' participation in the program authorizes the sale of flood insurance to owners of property located in the communities listed.

EFFECTIVE DATES: The dates listed under the column headed Effective Date of Eligibility.

ADDRESSES: Flood insurance policies for property located in the communities listed can be obtained from any licensed property insurance agent or broker serving the eligible community, or from the NFIP at: (800) 927-4661.

FOR FURTHER INFORMATION CONTACT: Mike Grimm, Mitigation Division, 500 C Street, SW., Room 412, Washington, DC 20472, (202) 646-2878.

SUPPLEMENTARY INFORMATION: The NFIP enables property owners to purchase flood insurance which is generally not otherwise available. In return, communities agree to adopt and administer local floodplain management measures aimed at protecting lives and new construction from future flooding. For a complete list of those communities that participate in the NFIP see http://www.fema.gov/fema/csb.shtm.

In addition, the Federal Emergency Management Agency has identified the special flood hazard areas in some of these communities by publishing a Flood Hazard Boundary Map (FHBM) or Flood Insurance Rate Map (FIRM). The date of the flood map, if one has been published, is indicated in the fourth column of the table. In the communities listed where a flood map has been published, Section 202 of the Flood Disaster Protection Act of 1973, as amended, 42 U.S.C. 4016(a), requires the purchase of flood insurance as a condition of Federal or federally related financial assistance for acquisition or construction of buildings in the special flood hazard areas shown on the map.

The Administrator finds that delayed effective dates would be contrary to the public interest and that notice and public procedure under 5 U.S.C. 553(b) are impracticable and unnecessary.

National Environmental Policy Act. This rule is categorically excluded from the requirements of 44 CFR Part 10, Environmental Considerations. No environmental impact assessment has been prepared.

Regulatory Flexibility Act. The Administrator certifies that this rule will not have a significant economic impact on a substantial number of small entities in accordance with the Regulatory Flexibility Act, 5 U. S. C. 601 et seq., because the rule creates no additional burden, but lists those communities eligible for the sale of flood insurance.

Regulatory Classification. This final rule is not a significant regulatory action under the criteria of section 3(f) of Executive Order 12866 of September 30, 1993, Regulatory Planning and Review, 58 FR 51735.

Paperwork Reduction Act. This rule does not involve any collection of information for purposes of the Paperwork Reduction Act, 44 U.S.C. 3501 et seq.

Executive Order 12612, Federalism. This rule involves no policies that have federalism implications under Executive Order 12612, Federalism, October 26, 1987, 3 CFR, 1987 Comp., p. 252.

Executive Order 12778, Civil Justice Reform. This rule meets the applicable standards of section 2(b)(2) of Executive Order 12778, October 25, 1991, 56 FR 55195, 3 CFR, 1991 Comp., p. 309.

List of Subjects in 44 CFR Part 64

Flood insurance, Floodplains.

Accordingly, 44 CFR part 64 is amended as follows:

PART 64—[AMENDED]

1. The authority citation for Part 64 continues to read as follows:

Authority: 42 U.S.C. 4001 et seq., Reorganization Plan No. 3 of 1978, 3 CFR, 1978 Comp., p. 329; E.O. 12127, 44 FR 19367, 3 CFR, 1979 Comp., p. 376.

§ 64.6 [Amended]

2. The tables published under the authority of § 64.6 are amended as follows:

State/location | Community No. | Effective date of eligibility | Current effective map date
Newly Eligible Communities: Emergency Program
Kansas: Wilsey, City of, Morris County | 205210 | February 13, 2003.
Oklahoma:
Perkins, City of, Payne County | 400431 | ......do | April 9, 1976 FHBM.
Mannford, Town of, Creek County | 400399 | March 20, 2003 | November 12, 1976 FHBM.
Arkansas: Madison County, unincorporated areas | 050449 | April 2, 2003 | June 14, 1977 FHBM.
Kansas: Burlingame, City of, Osage County | 200249 | April 14, 2003 | December 24, 1976 FHBM.
Alabama: Pike Road, Town of, Montgomery County | 010433 | May 29, 2003.
North Carolina: Claremont, City of, Catawba County | 370557 | ......do.
Indiana: Clay County, unincorporated areas | 180408 | June 6, 2003 | November 25, 1977 FHBM.
Tennessee:
Mosheim, Town of, Greene County | 470310 | June 19, 2003 | September 3, 1976 FHBM.
Spencer, City of, Van Buren County | 470239 | ......do | February 7, 1975 FHBM.
North Carolina: Falkland, Town of, Pitt County | 370666 | June 20, 2003.
Missouri:
Pineville, City of, McDonald County | 290535 | June 28, 2003 | April 18, 1975 FHBM.
Sheridan, City of, Worth County | 290523 | June 30, 2003.
Illinois:
Bismarck, Village of, Vermillion County | 171079 | July 3, 2003.
Edinburg, Village of, Christian County | 175422 | ......do
Freeman Spur, Village of, Franklin County | 170953 | ......do | October 20, 1978 FHBM.
Alabama: DeKalb County, unincorporated areas | 010320 | July 17, 2003 | April 28, 1978 FHBM.
South Dakota: Hermosa, Town of, Custer County | 460230 | July 24, 2003 | January 21, 1977 FHBM.
Newly Eligible Communities: Regular Program
Ohio: Adams County, unincorporated areas | 390001 | February 3, 2003 | November 21, 2001.
Kansas: Hamilton County, unincorporated areas | 200123 | February 13, 2003 | January 2, 2003.
Texas: Buffalo Springs, Village of, Lubbock County | 481688 | ......do | September 18, 2002.
Illinois: Saybrook, Village of, McLean County | 171074 | February 24, 2003 | February 9, 2001.
Maine: Newcastle, Town of, Lincoln County | 230218 | April 1, 2003 | April 1, 2003.
Missouri: Webster County, unincorporated areas | 290848 | April 14, 2003 | July 17, 2002.
Delaware: Georgetown, Town of, Sussex County | 100062 | May 5, 2003 | May 5, 2003.
Iowa: Monona County, unincorporated areas | 190893 | May 19, 2003 | May 2, 2002.
Alabama: Cardiff, Town of, Jefferson County | 010119 | May 23, 2003 | January 20, 1999.
North Carolina: Locust, City of, Stanly County | 370508 | May 29, 2003 | September 21, 2000.
Oklahoma: Le Flore County, unincorporated areas | 400484 | June 1, 2003 | June 1, 2003.
Alaska: Homer, City of, Kenai Peninsula Borough | 020107 | June 2, 2003 | June 16, 1999.
Nebraska:
Burwell, City of, Garfield County | 310354 | ......do | April 2, 2001.
Bushnell, Village of, Kimball County | 310255 | ......do | Do.
Greeley, Village of, Greeley County | 310373 | ......do | Do.
Table Rock, Village of, Pawnee County | 310172 | ......do | Do.
New Hampshire: Northwood, Town of, Rockingham County | 330855 | June 4, 2003 | January 2, 1987.
Nevada: Fernley, City of, Lyon County | 320038 | ......do
Alabama: Center Point, City of, Jefferson County | 010445 | June 5, 2003.
Georgia: Reynolds, City of, Taylor County | 130527 | June 19, 2003 | September 20, 1996.
Iowa:
Marshall County, unincorporated areas | 190890 | ......do | January 2, 2003.
Swisher, City of, Johnson County | 190810 | June 30, 2003 | August 20, 2002.
Tennessee: Munford, City of, Tipton County ² | 470422 | ......do. |
South Carolina: Fairfax, Town of, Allendale County | 450010 | July 1, 2003 | July 1, 2003.
Arkansas: Mount Vernon, City of, Faulkner County | 050570 | July 3, 2003 | February 5, 2003.
Louisiana: Campti, Town of, Natchitoches Parish | 220401 | ......do | NSFHA.
Minnesota: Grant, City of, Washington County ³ | 270780 | ......do. |
Texas: Cockrell Hill, City of, Dallas County | 480169 | ......do | February 5, 2003.
Missouri: Irondale, Town of, Washington County | 290446 | July 15, 2003 | April 2, 2001.
Alabama:
Level Plains, Town of, Dale County | 010416 | July 17, 2003 | August 3, 1989.
Rehobeth, Town of, Houston County | 010392 | ......do | November 21, 2002.
Florida: Miami Lakes, Town of, Miami Dade County ⁴ | 120686 | ......do. |
Arkansas: Highfill, Town of, Benton County | 050581 | July 22, 2003 | NSFHA.
Oklahoma: Elmore, City of, Garvin County | 400374 | July 31, 2003 | July 20, 1982.
Reinstatements
Virginia: Winchester, City of, Independent City | 510173 | September 6, 1974, Emerg | November 15, 1978.
Note: Reinstated on Probationary Status |  | November 15, 1978, Reg. November 15, 1978, Sus. February 7, 2003, Rein.
Illinois:
Champaign County, Unincorporated | 170894 | January 14, 1975, Emerg March 1, 1984, Reg. January 3, 2003, Susp. February 24, 2003, Rein. | January 2, 2003.
Rockdale, Village of, Will County | 170710 | May 27, 1975, Emerg September 15, 1983, Reg. September 6, 1995, Susp. March 14, 2003, Rein. | March 17, 2003.
Indiana: Westfield, Town of, Hamilton County | 180083 | August 15, 1975, Emerg March 16, 1981, Reg. February 20, 2003, Susp. March 14, 2003, Rein. | February 19, 2003.
Maryland: Loch Lynn Heights, Town of, Garrett County | 240037 | May 23, 1975, Emerg August 15, 1979, Reg. August 15, 1979, Susp. March 19, 2003, Rein. | August 16, 1994.
Ohio: Green Springs, Village of, Sandusky/Seneca Counties | 390492 | April 2, 1976, Emerg August 15, 1980, Reg. August 15, 1980, Susp. March 20, 2003, Rein. | August 15, 1980.
North Carolina: Wilkes County, unincorporated areas | 370256 | May 28, 1976, Emerg March 31, 2003, Reg. June 4, 1987, Susp. March 31, 2003, Rein. | August 9, 1999.
Wisconsin: Winnebago County, unincorporated areas | 550537 | April 15, 1974, Emerg February 4, 1981, Reg. March 18, 2003, Susp. April 2, 2003, Rein. | March 17, 2003.
Tennessee: Lookout Mountain, Town of, Hamilton County | 470075 | May 6, 1977, Emerg June 20, 1986, With. June 5, 2003, Rein. | November 7, 2002.
Pennsylvania: Banks, Township of, Carbon County | 421452 | July 25, 1975, Emerg October 1, 1986, Reg. July 9, 2002, Susp. June 23, 2003, Rein. | June, 3, 2002.
Oklahoma: Blaine County, unincorporated areas | 400011 | May 28, 1993 Emerg August 2, 1995, Reg. August 2, 1995, Susp. June 28, 2003, Rein. | August 2, 1995.
Wisconsin: Monona, City of, Dane County | 550088 | March 25, 1975, Emerg June 15, 1978, Reg. June 18, 2003, Susp. June 30, 2003, Rein. | June 17, 2003.
Colorado: Eagle, Town of, Eagle County | 080238 | August 20, 1976, Emerg March 18, 1980, Reg. May 17, 1989, Susp. July 7, 2003, Rein. | March 18, 1980.
Wisconsin:
Cambridge, Village of, Dane County | 550080 | November 28, 1975, Emerg June 4, 1980, Reg. June 18, 2003, Susp. July 14, 2003, Rein. | June 17, 2003.
Stoughton, City of, Dane County | 550091 | April 15, 1975, Emerg June 15, 1978, Reg. June 18, 2003, Susp. July 14, 2003, Rein. | Do.
Waunakee, Village of, Dane County | 550093 | May 29, 1975, Emerg May 1, 1978, Reg. June 18, 2003, Susp. July 14, 2003, Rein. | Do.
Belleville, Village of, Dane County | 550159 | July 15, 1975, Emerg November 19, 1980, Reg. June 18, 2003, Susp. July 15, 2003, Rein. | Do.
De Forest, Village of, Dane County | 550082 | November 28, 1975, Emerg June 4, 1980, Reg. June 18, 2003, Susp. July 15, 2003, Rein. | Do.
Suspensions
Illinois: Champaign County, unincorporated | 170894 | January 14, 1975, Emerg March 1, 1984, Reg. January 3, 2003, Susp. | January 2, 2003.
Indiana: Westfield, Town of, Hamilton County | 180083 | August 15, 1975, Emerg March 16, 1981, Reg. February 20, 2003, Susp. | February 19, 2003.
Wisconsin: Winnebago County, unincorporated areas | 550537 | April 15, 1974, Emerg February 4, 1981, Reg. March 18, 2003, Susp. | March 17, 2003.
Maine: Allagash, Town of, Aroostook County | 230440 | March 19, 1974, Emerg August 5, 1985, Reg. April 2, 2003, Susp. | April 2, 2003
North Carolina: Scotland County, unincorporated areas | 370316 | July 30, 1975, Emerg December 16, 1988, Reg. June 17, 2003, Susp. | June 17, 2003.
Wisconsin:
Belleville, Village of, Dane County | 550159 | July 15, 1975, Emerg November 19, 1980, Reg. June 18, 2003, Susp. | Do.
Cambridge, Village of, Dane County | 550080 | November 28, 1975, Emerg June 4, 1980, Reg. June 18, 2003, Susp. | Do.
De Forest, Village of, Dane County | 550082 | November 28, 1975, Emerg June 4, 1980, Reg. June 18, 2003, Susp. | Do.
Fitchburg, City of, Dane County | 550610 | August 23, 2001, Reg. June 18, 2003, Susp. | Do.
Monona, City of, Dane County | 550088 | March 25, 1975, Emerg June 15, 1978, Reg. June 18, 2003, Susp. | Do.
Oregon, Village of, Dane County | 550089 | May 28, 1974, Emerg September 30, 1980, Reg. June 18, 2003, Susp. | Do.
Stoughton, City of, Dane County | 550091 | April 15, 1975, Emerg June 15, 1978, Reg. June 18, 2003, Susp. | Do.
Verona, City of, Dane County | 550092 | June 24, 1975, Emerg August 1, 1980, Reg. June 18, 2003, Susp. | Do.
Waunakee, Village of, Dane County | 550093 | May 29, 1975, Emerg May 1, 1978, Reg. June 18, 2003, Susp. | Do.
Probation
Virginia: Winchester, City of, Independent City | 510173 | February 7, 2003 | November 15, 1978.
Louisiana: Catahoula Parish | 220047 | June 9, 2003 | May 4, 2002.
¹ The City of Fernley has adopted Lyon County (CID #320029) FIRM dated November 20, 1998, panels 0035 and 0055.
² The City of Munford has adopted Tipton County (CID #470340) FIRM dated April 2, 1991, panel 0150.
³ The City of Grant has adopted Washington County (CID #270499) FIRM dated May 17, 1982, panels 0030, 0040, 0125 and 0150.
⁴ The Town of Miami Lakes has adopted Miami-Dade County (CID #120635) FIRM dated July 17, 1995, panels 0075, 0080 and 0090.

State/location | Community No. | Suspension rescinded | Current effective map date
Suspension Rescissions
Region V
Illinois: Mahomet, Village of, Champaign County | 170029 | ......do | January 2, 2003.
Region VII
Kansas:
Hamilton County, Unincorporated Areas | 200123 | ......do | Do.
Syracuse, City of, Hamilton County | 200124 | ......do | Do.
Region I
Massachusetts: Worcester, City of, Worcester County | 250349 | ......do | January 16, 2003.
Region IV
Mississippi: Claiborne County, Unincorporated Areas | 280201 | ......do | Do.
Tennessee: Brentwood, City of, Williamson County | 470205 | ......do | Do.
Region V
Michigan: Owosso, City of, Shiawassee County | 260596 | ......do | Do.
Region VI
Arkansas:
Conway, City of, Faulkner County | 050078 | ......do | February 5, 2003.
Faulkner County, Faulkner County | 050431 | ......do | Do.
Greenbrier, City of, Faulkner County | 050328 | ......do | Do.
Region III
Virginia: Fairfax, City of, Independent City | 515524 | ......do | February 19, 2003.
Region IV
Mississippi: D'iberville, City of, Harrison County | 280336 | ......do | Do.
Region V
Indiana:
Archadia, Town of, Hamilton County | 180496 | ......do | Do.
Carmel, City of, Hamilton County | 180081 | ......do | Do.
Cicero, Town of, Hamilton County | 180320 | ......do | Do.
Fishers, Town of, Hamilton County | 180423 | ......do | Do.
Hamilton County, Unincorporated Areas | 180080 | ......do | Do.
Noblesville, City of, Hamilton County | 180082 | ......do | Do.
Region X
Idaho: Boise, City of, Ada County | 160002 | ......do | Do.
Region IV
North Carolina:
Cramerton, Town of, Gaston County | 370321 | ......do | March 3, 2003.
Dallas, Town of, Gaston County | 370322 | ......do | Do.
Gaston County, Unincorporated Areas | 370099 | ......do | Do.
McAdenville, Town of, Gaston County | 370101 | ......do | Do.
Ranlo, Town of, Gaston County | 370324 | ......do | Do.
Region V
Wisconsin: Lincoln County, Unincorporated Areas | 550585 | ......do | Do.
Region II
New Jersey: Bernardsville, Borough of, Somerset County | 340429 | ......do | March 17, 2003.
New York: Rotterdam, Town of, Schenectady County | 360740 | ......do | Do.
Region V
Illinois:
Frankfort, Village of, Will County | 170701 | ......do | Do.
Joliet, City of, Will County | 170702 | ......do | Do.
Mokena, Village of, Will County | 170705 | ......do | Do.
Monroe County, Unincorporated Areas | 170509 | ......do | Do.
Shorewood, Village of, Will County | 170712 | ......do | Do.
Will County, Unincorporated Areas | 170695 | ......do | Do.
Wisconsin:
Menasha, City of, Winnebago County | 550510 | ......do | Do.
Neenah, City of, Winnebago County | 550509 | ......do | Do.
Omro, City of, Winnebago County | 550533 | ......do | Do.
Oshkosh, City of, Winnebago County | 550511 | ......do | Do.
Winneconne, Village of, Winnebago County | 550512 | ......do | Do.
Region V
Ohio: Frankfurt, Village of, Ross County | 390484 | ......do | April 2, 2003.
Region I
Connecticut: Newtown, Town of, Fairfield County | 090011 | ......do | April 16, 2003.
New Hampshire: Errol, Town of, Coos County | 330206 | ......do | Do.
Region I
Maine:
Newry, Town of, Oxford County | 230337 | ......do | May 5, 2003.
Turner, Town of, Androscoggin County | 230010 | ......do | Do.
Region III
Delaware:
Cheswold Town of, Kent County | 100004 | ......do | Do.
Little Creek, Town of, Kent County | 100015 | ......do | Do.
Region IV
Florida:
Charlotte County, Unincorporated Areas | 120061 | ......do | Do.
Lee County, Unincorporated Areas | 125124 | ......do | Do.
Region V
Illinois:
Bradley, Village of, Kankakee County | 170338 | ......do | Do.
Kankakee, City of, Kankakee County | 170339 | ......do | Do.
Region IX
California: Tehama County, Unincorporated Areas | 065064 | ......do | Do.
Region III
Pennsylvania:
Carnegie, Borough of, Allegheny County | 420019 | ......do | May 15, 2003.
Crafton, Borough of, Allegheny County | 420026 | ......do | Do.
Green Tree, Borough of, Allegheny County | 420040 | ......do | Do.
Kennedy, Township of, Allegheny County | 421072 | ......do | Do.
Mckees Rocks, Borough of, Allegheny County | 420052 | ......do | Do.
Pittsburgh, City of, Allegheny County | 420063 | ......do | Do.
Robinson, Township of, Allegheny County | 421097 | ......do | Do.
Rosslyn Farms, Borough of, Allegheny County | 420069 | ......do | Do.
Scott, Township of, Allegheny County | 421100 |  | Do.
Thornburg, Borough of, Allegheny County | 420077 | ......do | Do.
Region IV
North Carolina:
Aurora, Town of, Beaufort County | 370014 | ......do | Do.
Bath, Town of, Beaufort County | 370288 | ......do | Do.
Beaufort County, Unincorporated Areas | 370013 | ......do | Do.
Belhaven, Town of, Beaufort County | 370015 | ......do | Do.
Chocowinity, Town of, Beaufort County | 370289 | ......do | Do.
Hyde County, Unincorporated Areas | 370133 | ......do | Do.
Pantego, Town of, Beaufort County | 370016 | ......do | Do.
Washington Park, Town of, Beaufort County | 370268 | ......do | Do.
Region II
New York:
Plattsburgh, City of, Clinton County | 360168 | ......do | June 3, 2003.
Plattsburgh, Town of, Clinton County | 360169 | ......do | Do.
Region IV
North Carolina: Laurinburg, City of, Scotland County | 370222 | ......do | June 17, 2003.
Region V
Wisconsin:
Black Earth, Village of, Dane County | 550079 | ......do | Do.
Cottage Grove, Village of, Dane County | 550617 | ......do | Do.
Cross Plains, Village of, Dane County | 550081 | ......do | Do.
Dane County, Unincorporated Areas | 550077 | ......do | Do.
Madison, City of, Dane County | 550083 | ......do | Do.
Marshall, Village of, Dane County | 550084 | ......do | Do.
Mazomanie, Village of, Dane County | 550085 | ......do | Do.
McFarland, Village of, Dane County | 550086 | ......do | Do.
Middleton, City of, Dane County | 550087 | ......do | Do.
Sun Prairie, City of, Dane County | 550573 | ......do | Do.
Region VIII
Colorado:
Wheat Ridge, City of, Jefferson County | 085079 | ......do | Do.
Wyoming: Lincoln County, Unincorporated Areas | 560032 | ......do | Do.
Region I
Maine: Beals, Town of, Washington County | 230133 | ......do | July 2, 2003.
Region II
New Jersey:
Estell Manor, City of, Atlantic County | 340573 | ......do | Do.
Region III
Pennsylvania:
Allentown, City of, Lehigh County | 420585 | ......do | Do.
Salisbury, Township of, Lehigh County | 420591 | ......do | Do.
Region V
Wisconsin: Markesan, City of, Green Lake County | 550169 | ......do | Do.
Region III
Virginia:
New Market, Town of, Shenandoah County | 510227 | ......do | July 16, 2003.
New Market, Town of, Shenandoah County | 510227 | ......do | Do.
Shenandoah County, Unincorporated Areas | 510147 | ......do | Do.
Strasburg, Town of, Shenandoah County | 510149 | ......do | Do.
Toms Brook, Town of, Shenandoah County | 510233 | ......do | Do.
Woodstock, Town of, Shenandoah County | 510150 | ......do | Do.
Region IV
North Carolina:
Atlantic Beach, Town of, Carteret County | 370044 | ......do | Do.
Beaufort, Town of, Carteret County | 375346 | ......do | Do.
Bogue, Town of, Carteret County | 370491 | ......do | Do.
Cape Carteret, Town of, Carteret County | 370046 | ......do | Do.
Carteret County, Unincorporated Areas | 370043 | ......do | Do.
Cedar Point, Town of, Carteret County | 370465 | ......do | Do.
Emerald Isle, Town of, Carteret County | 370047 | ......do | Do.
Indian Beach, Town of, Carteret County | 370433 | ......do | Do.
Morehead City, Town of, Carteret County | 370048 | ......do | Do.
Newport, Town of, Carteret County | 370049 | ......do | Do.
Pine Knoll Shores, Town of, Carteret County | 370267 | ......do | Do.
Note: Do. and do = ditto.
Code for reading fourth column: Emerg.—Emergency; Reg.—Regular; Rein.—Reinstatement; Susp.—Suspension; With.—Withdrawn; NSFHA—Non Special Flood Hazard Area.

(Catalog of Federal Domestic Assistance No. 83.100, “Flood Insurance”)
Dated: October 17, 2003.
Anthony S. Lowe,
Mitigation Division Director, Emergency Preparedness and Response Directorate.

[FR Doc. 03-27054 Filed 10-24-03; 8:45 am]

BILLING CODE 6718-05-P